DEPARTMENT OF THE INTERIOR

National Park Service

Concession Contract Negotiations; Public Notice

AGENCY: National Park Service, Interior.

ACTION: Public notice.

SUMMARY: Pursuant to 36 CFR 51.23, public notice is hereby given that the National Park Service proposes to extend the following expiring concession contracts for a period of up to one year, or until such time as a new contract is awarded, whichever occurs sooner.

SUPPLEMENTARY INFORMATION: All of the listed concession authorizations will expire by their terms on or before December 31, 2002. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Concessioner ID No. | Concessioner name | Park
BAND001 | Bandelier Trading, Inc. | Bandelier National Monument.
BRCA002 | Bryce-Zion Trail Rides | Bryce Canyon National Park.
CANY001 | Adventure Bound, Inc. | Canyonlands National Park.
CANY002 | Abercrombie & Kent America Adventures, Ltd. | Canyonlands National Park.
CANY003 | NAVTEC Expeditions, Inc. | Canyonlands National Park.
CANY004 | Colorado Outward Bound School | Canyonlands National Park.
CANY005 | Colorado River & Trail Expeditions, Inc. | Canyonlands National Park.
CANY006 | Don Hatch River Expeditions, Inc. | Canyonlands National Park.
CANY007 | Holiday River Expeditions, Inc. | Canyonlands National Park.
CANY009 | Moki Mac River Expeditions, Inc. | Canyonlands National Park.
CANY010 | O.A.R.S. Canyonlands, Inc. | Canyonlands National Park.
CANY011 | Western River Expeditions, Inc. | Canyonlands National Park.
CANY012 | Niskanen & Jones, Inc. | Canyonlands National Park.
CANY014 | Niskanen & Jones, Inc. | Canyonlands National Park.
CANY015 | Holiday River Expeditions, Inc. | Canyonlands National Park.
CANY016 | Tour West, Inc. | Canyonlands National Park.
CANY017 | Western River Expeditions, Inc. | Canyonlands National Park.
CANY018 | American Wilderness Expeditions, Inc. | Canyonlands National Park.
CANY019 | Niskanen & Jones, Inc. | Canyonlands National Park.
CANY020 | World Wide River Expeditions, Inc. | Canyonlands National Park.
DINO001 | Adventure Bound Tours, Inc. | Dinosaur National Park.
DINO002 | American River Touring Assoc. | Dinosaur National Park.
DINO003 | Colorado Outward Bound School | Dinosaur National Park.
DINO005 | Holiday River Expeditions, Inc. | Dinosaur National Park.
DINO006 | Don Hatch River Expeditions, Inc. | Dinosaur National Park.
DINO008 | Dinosaur River Expeditions | Dinosaur National Park.
DINO009 | O.A.R.S., Inc. | Dinosaur National Park.
DINO011 | National Outdoor Leadership School, Inc. | Dinosaur National Park.
DINO012 | Sheri Griffith Expeditions | Dinosaur National Park.
DINO014 | Eagle Outdoor Sports | Dinosaur National Park.
DINO016 | Adrift Adventures, Inc. | Dinosaur National Park.
GRTE001 | Grand Teton Lodge Co. | Grand Teton National Park.
GRTE024 | Jackson Hole Ski Corp | Grand Teton National Park.
GRTE025 | Rendezvous Ski Tours | Grand Teton National Park.
GRTE032 | Spring Creek Ranch | Grand Teton National Park.
GRTE046 | Gros Ventre River Ranch | Grand Teton National Park.
GRTE047 | The National Outdoor Leadership School | Grand Teton National Park.
MEVE001 | Aramark Mesa Verde Co. | Mesa Verde National Park.
WHSA001 | White Sands Concessions | White Sands National Monument.
YELL001 | West Park Hospital | Yellowstone National Park.

EFFECTIVE DATE: January 2, 2003.

FOR FURTHER INFORMATION CONTACT: Cynthia Orlando, Concession Program Manager, National Park Service, Washington, DC, 20240, Telephone 202/513-7156.

Dated: October 31, 2002.
Richard G. Ring,
Associate Director, Administration, Workforce Development and Business Practices.

[FR Doc. 02-30923 Filed 12-5-02; 8:45 am]

BILLING CODE 4310-70-M